NATIONAL ARCHIVES AND RECORDS ADMINISTRATION

Draft NARA Guidance for Implementing Section 207(e) of the E-Government Act of 2002; Request for Comment

AGENCY: National Archives and Records Administration (NARA).

ACTION: Notice of availability of document; request for comment.

SUMMARY: NARA is seeking public comment on the draft NARA Guidance for Implementing Section 207(e) of the E-Government Act of 2002. This bulletin will provide Federal agencies with the National Archives and Records Administration's (NARA) approach to improve the management of electronic records, including web records, as directed by Section 207(e) of the E-Government Act of 2002, [Pub. L. 107-347].

DATES: Comments must be received by December 29, 2005

ADDRESSES: Please send your comments by e-mail to comments @nara.gov or by fax to 301-837-0319 or by mail to NPOL, National Archives and Records Administration, Room 4100, 8601 Adelphi Rd, College Park, MD 20740-6001

FOR FURTHER INFORMATION CONTACT: Nancy Allard at 301-837-1477 or via e-mail at nancy.allard@nara.gov.

SUPPLEMENTARY INFORMATION: The E-Government Act of 2002 directs the Archivist of the United States to issue policies for effective management of electronic records, including Government information on the Internet (web records) by December 17, 2005. NARA has considered the December 2004 Report of the Interagency Committee on Government Information (ICGI) in developing these policies. The ICGI Report is available at http://www.cio.gov/documents/ICGI/ICGI-207e-report.pdf. For a paper copy of the Report, contact the person listed in FOR FURTHER INFORMATION CONTACT.

Dated: November 4, 2005.
Nancy Allard,
Federal Register Liaison.

DRAFT NARA Bulletin 2006-XX

TO: Heads of Federal Agencies

SUBJECT: NARA Guidance for Implementing Section 207(e) of the E-Government Act of 2002

EXPIRATION DATE: October 1, 2009

1. What is the purpose of this bulletin?

This bulletin provides Federal agencies with the National Archives and Records Administration's (NARA) approach to improve the management of electronic records, including web records, as directed by Section 207(e) of the E-Government Act of 2002, [Pub. L. 107-347].

2. What is the background for this bulletin?

Section 207(e) directs the Archivist of the United States to issue policies:

(A) requiring the adoption by agencies of policies and procedures to ensure that chapters 21, 25, 27, 29, and 31 of title 44, United States Code, are applied effectively and comprehensively to Government information on the Internet and to other electronic records; and

(B) imposing timetables for the implementation of the policies, procedures, and technologies by agencies.

3. What policies is NARA issuing?

a. NARA issues regulations governing the management of all records, including electronic records in 36 CFR Ch. XII, Subchapter B. NARA also issues policy guidance that supplements these regulations.

b. This bulletin outlines the major pieces of existing NARA policy guidance related to electronic records management and the areas in which future policy will be made. The bulletin also establishes timelines by which Federal agencies and NARA must take action regarding electronic records management.

4. What must agencies do to implement this bulletin?

a. Agencies must continue to manage their records, including electronic records, consistent with 36 CFR Ch. XII, Subchapter B, Records Management. In addition, and as required by these regulations, agencies must continue to identify, schedule, and transfer to NARA records, particularly electronic records, that have or will likely have a permanent retention. By September 30, 2009, agencies must have NARA-approved records schedules covering all existing (as of December 17, 2005) electronic records systems.

b. To support this activity, NARA establishes the following timelines:

Date required | Responsible party (federal agencies or NARA) | Required actions
Ongoing | Federal Agencies | Federal agencies are already required to: • Implement processes and procedures to manage electronic records in existing agency systems; • Transfer to NARA permanent electronic records from existing or legacy systems according to approved records schedules; • Identify, schedule, and transfer to NARA permanent or potentially permanent electronic records from existing or legacy systems. By September 30, 2009, agencies must have NARA-approved records schedules covering all existing (as of December 17, 2005) electronic records systems.
Ongoing | Federal Agencies | Federal agencies must build records management capabilities into all newly developed systems that generate Federal records, specifically including functionalities to identify and transfer to NARA records of permanent or potentially permanent value.
By FY 2008 (October 1, 2007) | NARA | NARA will: • Articulate specifications for agencies to use to ensure the solutions professional and IT service providers sell to Federal agencies meet statutory and regulatory Federal records management requirements; and • Promulgate additional guidance and best practices for Federal agencies to identify, schedule, and transfer to NARA permanent or potentially permanent electronic records from existing or legacy systems.

Major areas of existing NARA guidance and plans for future guidance are described in the attachment to this bulletin.

5. How does the Electronic Records Archives (ERA) program relate to this bulletin?

a. On September 8, 2005, NARA awarded a six-year contract to Lockheed Martin Corporation to build the ERA system for NARA. The Initial Operating Capability for the system is scheduled to be available in late FY 2007 and Full Operating Capability is planned to be available in FY 2011. All records management tools, policies, and requirements developed by NARA support or will support the comprehensive and effective management of electronic records and their management within the ERA system, as well as the statutory and business needs of Federal agencies.

b. As Federal agencies develop procedures and processes to manage their records, especially permanent or potentially permanent electronic records, the procedures and processes should meet their agency business needs and be consistent with ERA. NARA will provide agencies with information regarding ERA as development proceeds.

6. Whom do I contact for additional information?

a. NARA's Life Cycle Management Division provides assistance and advice to agency records officers in the Washington, DC, area. Your agency's records officer may contact the NARA appraiser or records analyst with whom your agency normally works for support in carrying out this bulletin. A list of the appraisal and scheduling work groups is posted on the NARA Web site at http://www.archives.gov/records-mgmt/appraisal/index.html.

b. The Records Management staff in NARA's regional offices provides assistance to agency records officers across the country. A complete list of NARA regional facilities may be found at http://www.archives.gov/facilities/index.html.

c. If you need more general information about the contents of this bulletin, please contact [to be added when bulletin is issued].

Allen Weinstein,

Archivist of the United States.

[Attachment] Policy for Effective and Comprehensive Management of Electronic Records Introduction

The Federal Records Act directs the Archivist of the United States to provide guidance and assistance to Federal agencies to ensure adequate and proper documentation of the policies and transactions of the Federal Government.

The E-Gov Act of 2002 further directs the Archivist to issue policies to ensure that the Federal Records Act is applied effectively and comprehensively to Government information on the Internet and to other electronic records.

Existing Policy

To fulfill its statutory responsibilities, NARA regularly promulgates records management policy to ensure adequate and proper documentation of the policies and transactions of the Federal Government. Current records management policy is available at http://www.archives.gov/records-mgmt/.

The following are links to significant records management policy for electronic records, including web records.

Web Records:

NARA Guidance for Managing Web Records (January 2005)— http://www.archives.gov/records-mgmt/policy/managing-web-records-index.html.

Other Electronic Records

• Enterprise-Wide ERM.

◦ Methodology for Determining Agency-unique Requirements (August 23, 2004)— http://www.archives.gov/records-mgmt/policy/requirements-guidance.html.

◦ Coordinating the Evaluation of Capital Planning and Investment Control (CPIC) Proposals for ERM Applications (June 23, 2003)— http://www.archives.gov/records-mgmt/policy/cpic-guidance.html.

• Electronic Information Management Standards.

◦ NARA Bulletin 2003-03, Endorsement of DoD Electronic Records Management Application (RMA) Design Criteria Standard, version 2 (January 15, 2003)— http://www.archives.gov/records-mgmt/bulletins/2003/2003-03.html.

• Transfer permanent electronic records to NARA.

◦ Transfer Instructions for Permanent Electronic Records: Web Content Records (September 17, 2004)— http://www.archives.gov/records-mgmt/initiatives/web-content-records.html.

◦ Transfer Instructions for Permanent Electronic Records: Digital Geospatial Data Records (April 9, 2004)— http://www.archives.gov/records-mgmt/initiatives/digital-geospatial-data-records.html.

◦ Transfer Instructions for Permanent Electronic Records: Digital Photographic Records (November 12, 2003)— http://www.archives.gov/records-mgmt/initiatives/digital-photo-records.html.

◦ Transfer Instructions for Permanent Electronic Records in Portable Document Format (PDF) (March 31, 2003)— http://www.archives.gov/records-mgmt/initiatives/pdf-records.html.

◦ Transfer Instructions for Existing Scanned Images of Textual Records (December 23, 2002)— http://www.archives.gov/records-mgmt/initiatives/scanned-textual.html.

◦ Transfer Instructions for Existing E-mail Messages with Attachments (September 30, 2002)— http://www.archives.gov/records-mgmt/initiatives/e-mail-attachments.html.

• NARA Guidance on Electronic Signatures.

◦ Records Management Guidance for Agencies Implementing Electronic Signature Technologies— http://www.archives.gov/records-mgmt/policy/electronic-signature-technology.html.

◦ Records Management Guidance For PKI-Unique Administrative Records— http://www.archives.gov/records-mgmt/policy/pki-guidance.html.

◦ Records Management Guidance for PKI Digital Signature Authenticated and Secured Transaction Records— http://www.archives.gov/records-mgmt/policy/pki.html.

Future Tools, Policy, and Requirements

Electronic Records Management (ERM) Toolkit. The ERM Toolkit will be developed as an organized portal where a collection of proven ERM guidance tools such as case studies, best practice documents, process models, policies and directives, tips and techniques, training programs, lessons learned, presentations, and other practical tools that can be used by Federal agencies to promote and implement effective management of Government information on the Internet and other electronic records.

An initial proof-of-concept will be deployed in March 2006, with subsequent tools and capabilities added thereafter. NARA-developed guidance outlined below will be available in the ERM Toolkit.

Records Management Profile and Records Management Service Components. With a wide variety of stakeholders, NARA will develop policy and conceptual products to support Federal agencies in building records management requirements into IT systems creating electronic records. These include:

• Records Management Profile. The Records Management Profile is a framework that overlays, or cross-cuts, the inter-related Federal Enterprise Architecture (FEA) reference models: The Business Reference Model, the Service Component Reference Model, the Technical Reference Model, the Data Reference Model, and the Performance Reference Model. The Records Management Profile provides an overview of the FEA and explains how the reference models provide a context for applying effective records management practices.

Developed in concert with the Office of Management Budget (OMB) and other stakeholders, and currently under review at OMB, this tool will be available in FY 2006.

• Records Management Service Components (RMSC). In FY 2005, NARA led an effort with records management, counsel, IT, and program management leaders from eighteen Federal agencies that identified functional requirements for records management within a components-based architecture. An RMSC is a piece of software that provides services that support the creation, management, transfer, and destruction of electronic records within a components-based or service-oriented computing environment.

In FY 2006, NARA will invite back representatives from the eighteen participating agencies to review industry responses to a Request for Information (RFI) about the seven components currently identified to support records management in a components-based architecture and to finalize the requirements. The results of this activity will become part of a strategy to facilitate acquisition of RMSCs that can be used to provide interoperable Records Management functionality in any agency system that creates, receives, and manages electronic records in accordance with the FEA and with applicable laws and regulations.

Increasing Awareness of Records Management Considerations in the Professional Services and IT Services Community

NARA will broaden and increase records management considerations in professional services and IT system procurements by:

• Providing professional services providers (GSA Schedule Mission Oriented Business Integration Services (MOBIS) providers) criteria and standards to ensure statutory and regulatory Federal records management requirements are accounted for in the business solutions they provide to Federal agencies that affect or result in the creation of Federal electronic records. This work will be completed by October 1, 2008.

• Providing IT service providers (GSA Schedule 70 providers) criteria and standards to ensure statutory and regulatory Federal records management requirements are accounted for in IT systems creating electronic records in the transaction Federal Government business. This work will be completed by October 1, 2008.

Identification, Preservation, and Continued Access to Permanently Valuable Electronic Records

To ensure the identification, preservation, and continued access to Government information on the Internet and to other electronic records, NARA will develop policy for managing ¹ permanent or potentially permanent electronic records generated in Federal agencies.

¹ By managing, we include identifying, scheduling, and transferring to the National Archives.

In addition to developing the tools outlined above and continuing general work on NARA regulations and guidance, NARA will develop:

• Concise, public-use versions of criteria in NARA 1441, Appraisal Policy of the National Archives and Records Administration.

• Concise articulations of NARA's permanent records priorities based on our governmentwide resource allocation results, identifying the Federal Enterprise Architecture, Business Reference Model, Services to Citizens areas (Lines of Business) that NARA is most concerned with.

• Self-analysis checklists for Federal agencies to use to identify and report on:

(a) The major government information systems resources that they are responsible for that generate permanent or potentially permanent electronic records; and

(b) The general, high-level technical requirements Federal agencies must meet to manage their permanent or potentially permanent electronic records.

The agency self-analysis would include the NARA 1441 and the resource allocation criteria, as well as technical evaluation based on the Records Management Profile.

These tools will allow agencies to help Federal agencies and NARA identify and manage the electronic records that need to be preserved for access and use by future generations.

Timeline for Action
Date required | Responsible party (Federal agencies or NARA) | Required actions
Ongoing | Federal Agencies | Federal agencies are already required to:
|  | • Implement processes and procedures to manage electronic records in existing agency systems;
|  | • Transfer to NARA permanent electronic records from existing or legacy systems according to approved records schedules;
|  | • Identify, schedule, and transfer to NARA permanent or potentially permanent electronic records from existing or legacy systems.
|  | By September 30, 2009, agencies must have NARA-approved records schedules covering all existing (as of December 17, 2005) electronic records systems.
Ongoing | Federal Agencies | Federal agencies must build records management capabilities into all newly developed systems that generate Federal records, specifically including functionalities to identify and transfer to NARA records of permanent or potentially permanent value.
By FY 2008 (October 1, 2007) | NARA | NARA will:
|  | • Articulate specifications for agencies to use to ensure the solutions professional and IT service providers sell to Federal agencies meet statutory and regulatory Federal records management requirements; and
|  | • Promulgate additional guidance and best practices for Federal agencies to identify, schedule, and transfer to NARA permanent or potentially permanent electronic records from existing or legacy systems.

[FR Doc. 05-22527 Filed 11-10-05; 8:45 am]

BILLING CODE 7515-01-P